DEPARTMENT OF THE TREASURY

Internal Revenue Service

26 CFR Part 31

Employment Taxes and Collection of Income Tax at Source

CFR Correction

In Title 26 of the Code of Federal Regulations, Parts 30 to 39, revised as of April 1, 2010, on page 262, in § 31.3402(o)-3, replace the fifth sentence in paragraph (c) with three sentences to read as follows:

§ 31.3402(o)-3 Extension of withholding to sick pay.

* * * * *

(c) * * * If the payee is paid sick pay on a semimonthly basis, the specific whole dollar amount shall be at least $44 per semimonthly payment of sick pay. If the payee is paid sick pay on a monthly basis, the specific whole dollar amount shall be at least $88 per monthly payment of sick pay. If the payee is paid sick pay on a basis other than weekly, daily, biweekly, semi-monthly, or monthly, the specific whole dollar amount shall be the equivalent of at least $4 per day, assuming a 5 day work week of 8 hours per day (40 hours total) in each 7 day calendar week. * * *

* * * * *

[FR Doc. 2010-7093 Filed 3-29-10; 8:45 am]

BILLING CODE 1505-01-D